DEPARTMENT OF ENERGY

Federal Energy Regulatory Commission

Combined Notice of Filings

Take notice that the Commission has received the following Natural Gas Pipeline Rate and Refund Report filings:

Filings Instituting Proceedings

Docket Numbers: RP12-406-000

Applicants: Trailblazer Pipeline Company LLC

Description: Negotiated Rate Filing-Concord to be effective 3/1/2012

Filed Date: 2/28/12

Accession Number: 20120228-5086

Comments Due: 5 p.m. ET 3/12/12

Docket Numbers: RP12-407-000

Applicants: Trailblazer Pipeline Company LLC

Description: Negotiated Rate Filing-Koch to be effective 3/1/2012

Filed Date: 2/28/12

Accession Number: 20120228-5094

Comments Due: 5 p.m. ET 3/12/12

Docket Numbers: RP12-408-000

Applicants: American Midstream (Midla), LLC

Description: Midla Non-Conforming Agreements to be effective 3/1/2012

Filed Date: 2/28/12

Accession Number: 20120228-5106

Comments Due: 5 p.m. ET 3/12/12

Docket Numbers: RP12-409-000

Applicants: Gulf South Pipeline Company, LP

Description: ONEOK 34951 to BG Energy 39587 Capacity Release Negotiated Rate Agreement to be effective 3/1/2012

Filed Date: 2/28/12

Accession Number: 20120228-5110

Comments Due: 5 p.m. ET 3/12/12

Docket Numbers: RP12-410-000

Applicants: Trailblazer Pipeline Company LLC

Description: Negotiated Rate Filing-Enserco to be effective 3/1/2012

Filed Date: 2/28/12

Accession Number: 20120228-5117

Comments Due: 5 p.m. ET 3/12/12

Docket Numbers: RP12-411-000

Applicants: Trailblazer Pipeline Company LLC

Description: Negotiated Rate Filing-United Energy to be effective 3/1/2012

Filed Date: 2/28/12

Accession Number: 20120228-5124

Comments Due: 5 p.m. ET 3/12/12

Docket Numbers: RP12-412-000

Applicants: Cheniere Creole Trail Pipeline, L.P.

Description: Semi-Annual Transportation Retainage Adjustment to be effective 4/1/2012

Filed Date: 2/28/12

Accession Number: 20120228-5125

Comments Due: 5 p.m. ET 3/12/12

Docket Numbers: RP12-413-000

Applicants: Tennessee Gas Pipeline Company, L.L.C.

Description: Volume No. 2—Name Change Negotiated Rate ERISE to be effective 4/1/2012

Filed Date: 2/28/12

Accession Number: 20120228-5139

Comments Due: 5 p.m. ET 3/12/12

Docket Numbers: RP12-414-000

Applicants: Trailblazer Pipeline Company LLC

Description: Negotiated Rate Filing-MIECO to be effective 3/1/2012

Filed Date: 2/28/12

Accession Number: 20120228-5140

Comments Due: 5 p.m. ET 3/12/12

Docket Numbers: RP12-415-000

Applicants: Guardian Pipeline, L.L.C.

Description: EPC Semi Annual Adjustment—Spring 2012 to be effective 4/1/2012

Filed Date: 2/28/12

Accession Number: 20120228-5143

Comments Due: 5 p.m. ET 3/12/12

Docket Numbers: RP12-416-000

Applicants: Viking Gas Transmission Company

Description: Semi Annual FLRP—Spring 2012 to be effective 4/1/2012

Filed Date: 2/28/12

Accession Number: 20120228-5144

Comments Due: 5 p.m. ET 3/12/12

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 29, 2012.
Nathaniel J. Davis, Sr.,
Deputy Secretary.

[FR Doc. 2012-5332 Filed 3-5-12; 8:45 am]

BILLING CODE 6717-01-P